ENVIRONMENTAL PROTECTION AGENCY

[EPA-HQ-OAR-2011-0742; FRL-10013-150-OMS]

Information Collection Request Submitted to OMB for Review and Approval; Comment Request; Air Pollution Regulations for Outer Continental Shelf (OCS) Activities (Renewal)

AGENCY: Environmental Protection Agency (EPA).

ACTION: Notice.

SUMMARY: The Environmental Protection Agency (EPA) has submitted an information collection request (ICR), Air Pollution Regulations for Outer Continental Shelf (OCS) Activities (EPA ICR Number 1601.09, OMB Control Number 2060-0249) to the Office of Management and Budget (OMB) for review and approval in accordance with the Paperwork Reduction Act. This is a proposed extension of the ICR, which is currently approved through September 30, 2020. Public comments were previously requested via the Federal Register on January 15, 2020, during a 60-day comment period. This notice allows for 30 days for public comments. A fuller description of the ICR is given below, including its estimated burden and cost to the public. An agency may not conduct or sponsor and a person is not required to respond to a collection of information unless it displays a currently valid OMB control number.

DATES: Additional comments may be submitted on or before August 31, 2020.

ADDRESSES: Submit your comments to EPA, referencing Docket ID No. EPA-HQ-OAR-2011-0724, online using www.regulations.gov (our preferred method) or by email at a-and-r-docket@epa.gov. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Ben Garwood, Air Quality Policy Division, Office of Air Quality Planning and Standards, C504-03, U.S. Environmental Protection Agency, Research Triangle Park, NC 27709; telephone number: (919) 541-1358; fax number: (919) 541-4028; email address: garwood.ben@epa.gov.

SUPPLEMENTARY INFORMATION: Supporting documents, which explain in detail the information that the EPA will be collecting, are available in the public docket for this ICR. The docket can be viewed online at www.regulations.gov. The telephone number for the Docket Center is 202-566-1744. For additional information about EPA's public docket, visit http://www.epa.gov/dockets.

Abstract: Section 328 of the Clean Air Act (CAA) gives the EPA responsibility for regulating air pollution from Outer Continental Shelf (OCS) sources located offshore of the states along the Atlantic and Pacific Coasts, and along the eastern Gulf of Mexico coast (off the coast of Florida). In general, OCS sources must obtain OCS permits complying with the EPA's preconstruction permit program (usually Prevention of Significant Deterioration (PSD) requirements) and title V operating permit program and then maintain ongoing compliance with their permit conditions. Industry respondents (OCS permit applicants) include owners or operators of existing and new or modified OCS sources. These owners or operators submit permit applications to the EPA or other delegated reviewing authority. After the EPA or delegated reviewing authority reviews and approves a permit, the owners or operators are required to conduct testing, monitoring, recordkeeping and reporting that will allow the EPA to determine whether these sources are or are not, meeting all applicable standards.

The EPA has delegated the authority to implement and enforce the OCS regulations for sources located off the coast of California to four local air pollution control agencies, although only three of these agencies currently have jurisdiction over OCS sources. The EPA has delegated the authority to implement and enforce the OCS regulations for sources located off a portion of the Atlantic Coast to three state agencies and anticipates approving such delegation to a fourth state in the near future. Delegated authorities review sources' permit applications and reports, issue permits, observe performance tests and conduct inspections to ensure that the sources are meeting all the applicable requirements. Section 176(c) of the CAA (42 U.S.C. 7401 et seq.) requires that all federal actions conform with the State Implementation Plans to attain and maintain the National Ambient Air Quality Standards.

The type and quantity of information required under the OCS program will depend on the circumstances surrounding the permit's application. First, the applicant and reviewing authority must determine if the new or modified source requires an OCS permit and, if so, which permit programs need to be addressed (such as PSD, major source nonattainment New Source Review (NSR), minor source NSR and/or the title V operating permit program). If the source is located within 25 miles of the state's seaward boundary (as established in the regulations) the requirements are the same as those that would be applicable in the corresponding onshore area. Sources locating beyond 25 nautical miles from the state seaward boundary are subject to federal air quality requirements including those outlined in the EPA's PSD preconstruction permit program, Part 71 title V operating permit program, New Source Performance Standards and some standards for Hazardous Air Pollutants promulgated under section 112 of the CAA. Where the EPA is the reviewing authority, state and local air pollution control agencies are usually requested to provide information concerning regulation of offshore sources and are provided opportunities to comment on the proposed determinations. The public is also provided an opportunity to comment on the proposed determinations.

Form numbers: None.

Respondents/affected entities: Entities that must apply for and obtain an OCS permit pursuant the OCS permit program as well as state and local agencies that have been delegated authority to implement and enforce the OCS permit program.

Respondent's obligation to respond: Mandatory (40 CFR part 55).

Estimated number of respondents: 29 industrial facilities and 7 state and local permitting agencies (total).

Frequency of response: On occasion, as necessary.

Total estimated burden: 20,223 hours (per year). Burden is defined at 5 CFR 1320.03(b).

Total estimated cost: $1,876,567 (per year), includes $21,496 annualized capital or operation & maintenance costs.

Changes in estimates: There is a decrease of 6,707 hours in the total estimated respondent burden compared with the ICR currently approved by OMB. This decrease is primarily due to a decrease in the projected number of OCS sources subject to the program.

Courtney Kerwin,
Director, Regulatory Support Division.

[FR Doc. 2020-16576 Filed 7-30-20; 8:45 am]

BILLING CODE 6560-50-P